DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before May 15, 2019.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on April 3, 2019.
Donald P. Burger,
Chief, General Approvals and Permits Branch.

Application No. | Applicant | Regulation(s) | Nature of the special permits thereof
Special Permits Data—Granted
8757-M | MILTON ROY, LLC | 173.201(c), 173.202(c), 173.203(c), 173.302a(a)(1), 173.304a(a)(1), 180.205 | To modify the special permit to authorize the addition of welded lower pressure cylinders in addition to the seamless cylinders already authorized.
10232-M | ITW SEXTON INC | 173.304(d), 173.306(j), 173.167 | To modify the special permit to authorize the use of a different proper shipping name for an existing hazmat.
10788-M | BEVIN BROS MANUFACTURING COMPANY | 173.302(a) | To modify the special permit to authorize brazing or welding of foot ring attachments to cylinders proceeding pressure testing.
11646-M | BAKER PETROLITE LLC | 172.203(a), 172.301(c), 177.834(h) | To modify the special permit to authorize additional Class 3, 6.1, 8 and 9 hazmat.
15146-M | CHEMTRONICS INC | 173.304(d), 172.200, 172.500, 172.400 | To modify the special permit to authorize the use of the limited quantity marking.
16394-M | CELLCO PARTNERSHIP | 173.185(f), 172.600, 172.400a, 172.200, 172.300 | To modify the permit to bring the permit provisions in line with regulatory citations.
16413-M | AMAZON.COM, INC | 172.301(c), 173.185(c)(1)(iii), 173.185(c)(3)(i) | To modify the special permit to authorize an additional mode of transportation (rail).
20288-M | DEPARTMENT OF DEFENSE (MILITARY SURFACE DEPLOYMENT & DISTRIBUTION COMMAND) | 175.10(a)(18)(ii) | To modify the special permit to authorize civilian as well as military personnel to carry on 2 CUPS units.
20351-M | ROEDER CARTAGE COMPANY, INCORPORATED | 180.407(c), 180.407(e), 180.407(f) | To modify the permit to authorize additional tanks for dedicated transportation of authorized hazmat.
20378-M | LG CHEM | 172.101(j) | To modify the special permit to authorize fiberboard boxes as outer packaging.
20391-M | Hexagon Purus LLC | 173.301(f), 173.302(a) | To modify the special permit to authorize an alternative mounting to the required one that cylinders must be permanently mounted inside of framing that is designed, marked and approved in accordance with the International Convention for Safe Containers (CSC).
20511-M | ARMOTECH s.r.o | 107.807(b)(1), 173.301(a)(1), 173.302(f)(1), 173.302(f)(2), 178.71(q), 178.71(t) | To authorize new and additional 2 and 5 inch cylinders.
20511-M | ARMOTECH s.r.o | 173.302(a)(1), 173.302(f)(1) | To modify the special permit to authorize three new cylinders.
20635-N | FAR RESEARCH, INC | 180.209(a) | To authorize the transportation in commerce of 4BW cylinders used exclusively for trimethylchlorosilane to be visual inspections per CGA C-6 in lieu of periodic hydrostatic testing.
20805-N | LG CHEM | 172.101(j) | To authorize the transportation in commerce of lithium batteries exceeding 35 kg by cargo-only aircraft.
20806-N | JAGUAR TEXAS VALVE AND INSTRUMENTS, LLC | 173.302a(a)(1), 173.304a(a)(1) | To authorize the manufacture, mark, sale, and use of non-DOT specification nickel copper alloy 400 cylinders.
20808-N | INNOPHOS, INC | 178.504(b)(9) | To authorize the transportation in commerce of UN 1A1 drums containing polyphosphoric acid in quantities that exceed the maximum mass authorize for steel drums.
20829-N | JAPAN AEROSPACE EXPLORATION AGENCY | 173.302 | To authorize the transportation in commerce of a non-DOT pressure vessel described as a JEM-Tissue Equivalent Proportional Chamber (J-TEPC) (radiation detector box).
20837-N | DEPARTMENT OF THE ARMY (MILITARY SURFACE DEPLOYMENT & DISTRIBUTION COMMAND) | 173.185(a) | To authorize the transportation in commerce of low production lithium ion batteries contained in equipment in a special packaging aboard cargo-only aircraft.
20840-N | YORK SPACE SYSTEMS LLC | 173.185(a)(1)(i), 173.185(a)(1)(ii) | York Space Systems is intending to ship a satellite that contains Low Production Lithium Ion Batteries tested to the Manual of Tests and Criteria, part III sub-section 38.3.
Special Permits Data—Denied
20612-M | WILCO MACHINE & FAB, INC | 178.345-7(a)(1), 178.345-3(a) | To modify the special permit to remove the annual testing requirement for some specific tanks.
20791-N | LINDE GAS NORTH AMERICA LLC | 172.203(a), 172.301(c), 173.302a(b), 180.205 | To authorize the transportation in commerce of DOT 3AL cylinders that have been visual inspected per CGA C-6 is performed in lieu of the specified internal visual examination and hydrostatic pressure test for DOT 3AL alloy 6061 cylinders.
Special Permits Data—Withdrawn
16011-M | AMERICASE, LLC | 173.185(f), 172.500, 172.600, 172.700(a), 172.200, 172.400, 172.300 | To clarify that suspected damaged, defective or recalled lithium batteries can be transported according to the permit. (modes 1,2,3).
20323-M | York Space Systems LLC | 173.185(a)(1)(i) | To modify the special permit to authorize additional class 9 hazmat.
20822-N | RETURN SOLUTIONS INC | Subchapter C | To authorize the manufacture, mark, sale, and use of non-DOT specification packaging for the transportation in commerce of certain materials authorized to be disposed of under 21 CFR Part 1317, Subpart B.

[FR Doc. 2019-07344 Filed 4-12-19; 8:45 am]

BILLING CODE 4909-60-P